DEPARTMENT OF COMMERCE

International Trade Administration

[A-570-893]

Notice of Extension of the Final Results of Antidumping Duty New Shipper Review: Certain Frozen Warmwater Shrimp from the People's Republic of China

AGENCY: Import Administration, International Trade Administration, Department of Commerce.

EFFECTIVE DATE: October 12, 2007.

FOR FURTHER INFORMATION CONTACT: Cindy Lai Robinson, AD/CVD Operations, Office 9, Import Administration, International Trade Administration, U.S. Department of Commerce, 14th Street and Constitution Avenue, NW, Washington DC 20230; telephone: (202) 482-3797.

SUPPLEMENTARY INFORMATION:

Background

On July 26, 2007, the Department of Commerce (“the Department”) published a preliminary notice of intent to rescind the antidumping duty new shipper review of certain frozen warm water shrimp from the People's Republic of China (“PRC”) with respect to Maoming Changxing Foods Co., Ltd. (“Maoming Changxing”), covering the period February 1, 2006, through July 31, 2007. See Certain Frozen Warmwater Shrimp from the People's Republic of China: Preliminary Notice of Intent to Rescind Antidumping Duty New Shipper Review, 72 FR 41058 (July 26, 2007).

Extension of Time Limit of Final Results

The final results for this new shipper review are currently due on October 17, 2007. Consistent with section 751(a)(2)(B)(iv) of the Tariff Act of 1930, as amended (“Act”) and 19 CFR 351.214(i)(2), the Department is extending the time limit for the completion of the final results of this new shipper review by 60 days because the case is extraordinarily complicated. This new shipper review involves complicated ownership and affiliation issues which will require the Department to consider arguments by interested parties regarding the actual owners and the source of founding capital with respect to Maoming Changxing. In addition, the Department requires additional time to consider domestic producers' arguments regarding the antidumping duty rate to apply to Maoming Changxing.

Because of the complexity of issues in this case, and in accordance with section 751(a)(2)(B)(iv) of the Act and 19 CFR 351.214(i)(2), we are extending the time period for issuing the final results of the new shipper review of Maoming Changxing by 60 days. Since a 60-day extension would result in the deadline for the final results falling on December 16, 2007, which is Sunday, the new deadline for the final results will be the next business day, December 17, 2007. See Notice of Clarification: Application of “Next Business Day” Rule for Administrative Determination Deadlines Pursuant to the Tariff Act of 1930, As Amended, 70 FR 24533 (May 10, 2005).

This notice is published pursuant to sections 751(a)(2)(B)(iv) and 777(i)(1) of the Act and section 351.214(i)(2) of the Department's regulations.

Dated: October 4, 2007.
Stephen J. Claeys,
Deputy Assistant Secretary for Import Administration.

[FR Doc. E7-20152 Filed 10-11-07; 8:45 am]

BILLING CODE 3510-DS-S